DEPARTMENT OF THE INTERIOR

Bureau of Land Management

[CA-930-1430-PN-252Z; CACA 42646]

Notice of Realty Action: Application for Conveyance of Mineral Interests, Madera County, CA

AGENCY: Bureau of Land Management, Interior.

ACTION: Notice of Realty Action.

SUMMARY: This publication supersedes in its entirety the previous publication dated October 18, 2007, found on page 59110, Volume 72, Number 201.

The surface owner of the lands described in this notice, aggregating approximately 25 acres, has filed an application for the purchase of the Federally-owned mineral interests in the lands. Publication of this notice temporarily segregates the mineral interest from appropriation under the public land laws, including the mining law.

DATES: Interested persons may submit written communication to the Bureau of Land Management (BLM) at the address stated below. Comments must be received no later than December 17, 2007.

ADDRESSES: Bureau of Land Management, 2800 Cottage Way, Sacramento, CA 95825. Detailed information concerning this action is available for review at the above address.

FOR FURTHER INFORMATION CONTACT: Kathy Gary, Land Law Examiner, at the above address, or 916-978-4677.

SUPPLEMENTARY INFORMATION: The surface owner of the following described lands has filed an application pursuant to section 209 of the Federal Land Policy and Management Act of 1976, 43 U.S.C. 1719(b), for the purchase and conveyance of the Federally-owned mineral interest in the following described lands:

Mount Diablo Meridian, Madera County, California

T. 9 S., R. 22 E., Sec. 6, described as follows:

“All coal and other minerals within that portion of Parcel 2 of Parcel Map 2415 recorded October 24, 1985 in the office of the County Recorder, County of Madera, State of California, in Book 31, of Maps, at Page 173, that is within a portion of Lot 3 of Section 6, T. 9 S., R. 22 E., Mount Diablo Base and Meridian, according to the official plat thereof, as reserved in patent number 1096001 dated March 11, 1938, together with the right to prospect for, mine, and remove the same pursuant to the provisions and limitations of the Act of December 29, 1916 (39 Stat., 862). Containing 25 acres, more or less.”

Effective immediately, BLM will process the pending application in accordance with the regulations stated in 43 CFR Part 2720. Written comments concerning the application must be received no later than the date specified above in this notice for that purpose. The purpose for a purchase and conveyance is to allow consolidation of surface and subsurface minerals ownership where (1) there are no known mineral values, or (2) in those instances where the Federal mineral interest reservation interferes with or precludes appropriate non-mineral development and such development is a more beneficial use of the land than the mineral development.

On December 17, 2007 the mineral interests owned by the United States in the above described lands will be segregated to the extent that they will not be subject to appropriation under the public land laws, including the mining laws. The segregative effect shall terminate upon issuance of patent or deed of such mineral interest; upon final rejection of the mineral conveyance application; or 2 years from the date of publication of this notice in the Federal Register, whichever occurs first.

Comments: Comments, including names, street addresses, and other contact information of respondents, will be available for public review. Before including your address, telephone number, e-mail address, or other personal identifying information in your comment, you should be aware that your entire comment—including your personal identifying information—may be made publicly available at any time. While you can ask us in your comment to withhold your personal identifying information from public review, we cannot guarantee that we will be able to do so. All persons who wish to present comments, suggestions, or objections in connection with the pending application may do so by writing to Robert M. Doyel, Chief, Branch of Lands Management, at the above mentioned address.

(Authority: 43 CFR 2720.1-1(b)).

Dated : October 25, 2007.
Robert M. Doyel,
Chief, Branch of Lands Management.

[FR Doc. E7-21395 Filed 10-30-07; 8:45 am]

BILLING CODE 4310-40-P